DEPARTMENT OF COMMERCE

National Oceanic and Atmospheric Administration

50 CFR Part 600

[I.D. 031802B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject exempted fishing permit (EFP) application contains all the required information and warrants further consideration. The Regional Administrator has also made a preliminary determination that the activities authorized under the EFP would be consistent with the goals and objectives of the Summer Flounder, Scup and Black Sea Bass Fishery Management Plan (FMP). However, further review and consultation may be necessary before a final determination is made to issue EFPs. Therefore, NMFS announces that the Regional Administrator proposes to issue EFPs that would allow up to three vessels to conduct fishing operations otherwise restricted by the regulations governing the fisheries of the Northeastern United States. EFPs would allow for exemptions to the minimum fish size requirements of the FMP. The experiment proposes to collect approximately 50 lb (22.68 kg) of juvenile black sea bass smaller than the current 11-inch (27.94-cm) minimum commercial fish size from Federal waters during the winter months, while the commercial black sea bass fishing season is open. The samples would be obtained with commercial handline tackle during the course of regular commercial fishing activity. The samples would be used by researchers at the Virginia Institute of Marine Science (VIMS) for population studies.

Regulations under the Magnuson-Stevens Fishery Conservation and Management Act require publication of this notification to provide interested parties the opportunity to comment on applications for proposed EFPs.

DATES: Comments on this document must be received on or before April 17, 2002.

ADDRESSES: Written comments should be sent to Patricia A. Kurkul, Regional Administrator, NMFS, Northeast Regional Office, 1 Blackburn Drive, Gloucester, MA 01930. Mark the outside of the envelope “Comments on Black Sea BASS EFP Proposal.” Comments may also be sent via facsimile (fax) to (978) 281-9135.

FOR FURTHER INFORMATION CONTACT: Richard A. Pearson, Fishery Policy Analyst, 978-281-9279.

SUPPLEMENTARY INFORMATION: The Virginia Institute of Marine Science submitted an application for EFPs on January 18, 2002, with final revisions received on February 19, 2002. The EFPs would facilitate the collection of data on the age, growth, and population structure of the black sea bass (Centropristis striata) population in the Mid-Atlantic region.

The experiment proposes to collect approximately 50 lb (22.68 kg) per month of sublegal juvenile black sea bass (<11 inches (27.94 cm)). The collection of undersized black sea bass would occur within Federal waters off the coasts of Maryland, Virginia and North Carolina. All sample collections would be conducted while the commercial fishing season is open, principally during the winter months. There would not be observers or researchers on every participating vessel. The samples would be collected by three federally permitted commercial vessels during the course of regular commercial fishing activity and would consist of sublegal fish that would otherwise have to be discarded. The juvenile black sea bass would be obtained using commercial handline tackle and kept on ice until landed. Upon landing, VIMS personnel would retrieve the samples and take them to the VIMS laboratory for analysis. None of the juvenile black sea bass would be sold. The participating vessels would be required to report the landings in their Vessel Trip Reports. The catch levels of approximately 50 lb (22.67 kg) per month are expected to have very little detrimental impact on the black sea bass resource.

The purpose of the VIMS study is to investigate the age, growth and population structure of black sea bass. The study would determine the ages of the undersized black sea bass using otoliths and scales. Then, using those data, the age, size, and sex composition of the current population would be compared with historic population data (Mercer 1978) that were obtained before the Mid-Atlantic black sea bass population was declared overfished. In addition, the study would seek to define the composition of commercial black sea bass catches off the Mid-Atlantic coast and Essential Fish Habitat for black sea bass using the NMFS groundfish database for offshore areas and the VIMS survey trawl database for inshore nursery areas.

EFPs would exempt up to three vessels from the 11-inch (27.94- cm) minimum commercial black sea bass fish size specified in the FMP and found at 50 CFR part 648, subpart I.

Based on the results of this EFP, this action may lead to future rulemaking.

Authority: 16 U.S.C. 1801 et seq.

Dated: March 26, 2002.
John H. Dunnigan,
Director, Office of Sustainable Fisheries, National Marine Fisheries Service.

[FR Doc. 02-7931 Filed 4-1-02; 8:45 am]

BILLING CODE 3510-22-S